NATIONAL CREDIT UNION ADMINISTRATION

12 CFR Parts 700, 704, 705, 707, 708b, 711, 713, 716, 723, 760, and 792

Technical Amendments

AGENCY: National Credit Union Administration (NCUA).

ACTION: Final rule.

SUMMARY: NCUA is amending a number of its regulations by making minor technical corrections and grammatical changes. The amendments delete duplicate words, add proper punctuations, and make other grammatically necessary corrections. The amendments are intended to provide helpful changes to NCUA's regulations.

DATES: This rule is effective May 28, 2008.

FOR FURTHER INFORMATION CONTACT: Justin M. Anderson, Staff Attorney, Office of General Counsel, National Credit Union Administration, 1775 Duke Street, Alexandria, Virginia 22314-3428 or telephone: (703) 518-6540.

SUPPLEMENTARY INFORMATION:

A. Background

In 2007, NCUA internally reviewed its regulations as part of a publication process. NCUA used this opportunity to update and clarify existing regulations. The 2007 review revealed that minor grammatical revisions to certain regulations would be helpful.

B. Regulatory Changes

This rule provides minor grammatical changes and will not cause any regulatory changes.

C. Regulatory Procedures

Final Rule Under the Administrative Procedure Act

Generally, the Administrative Procedure Act (APA) requires a federal agency to provide the public with notice and the opportunity to comment on agency rulemakings. The amendments in this rule are not substantive but technical in that they make minor corrections, merely provide clarification or alert users of the regulations to other legal requirements or limitations. The APA permits an agency to forego the notice and comment period under certain circumstances, such as when a rulemaking is technical and not substantive. NCUA finds good cause that notice and public comment are unnecessary under Section 553(b)(3)(B) of the APA. 5 U.S.C. 553(b)(3)(B). NCUA also finds good cause to dispense with the 30-day delayed effective date requirement under Section 553(d)(3) of the APA. 5 U.S.C. 553(d)(3). The rule will, therefore, be effective immediately upon publication.

Regulatory Flexibility Act

The Regulatory Flexibility Act requires NCUA to prepare an analysis to describe any significant economic impact a rule may have on a substantial number of small entities (those credit unions under ten million dollars in assets). This rule provides minor, technical changes to certain sections of NCUA's regulations. This rule will not have a significant economic impact on a substantial number of small credit unions, and, therefore, a regulatory flexibility analysis is not required.

Paperwork Reduction Act

NCUA has determined that this rule will not increase paperwork requirements under the Paperwork Reduction Act of 1995 and regulations of the Office of Management and Budget.

Executive Order 13132

Executive Order 13132 encourages independent regulatory agencies to consider the impact of their actions on state and local interests. In adherence to fundamental federalism principles, NCUA, an independent regulatory agency as defined in 44 U.S.C. 3502(5), voluntarily complies with the executive order. This rule will not have substantial direct effects on the states, on the relationship between the national government and the states, or on the distribution of power and responsibilities among the various levels of government. NCUA has determined that this rule does not constitute a policy that has federalism implications for purposes of the executive order.

The Treasury and General Government Appropriations Act, 1999—Assessment of Federal Regulations and Policies on Families

The NCUA has determined that this rule will not affect family well-being within the meaning of section 654 of the Treasury and General Government Appropriations Act, 1999, Public Law 105-277, 112 Stat. 2681 (1998).

Small Business Regulatory Enforcement Fairness Act

The Small Business Regulatory Enforcement Fairness Act of 1996 (Pub. L. 104-121) (SBREFA) provides generally for congressional review of agency rules. A reporting requirement is triggered in instances where NCUA issues a final rule as defined by Section 551 of the APA. 5 U.S.C. 551. The Office of Management and Budget has determined that this rule is not a major rule for purposes of SBREFA. As required by SBREFA, NCUA will file the appropriate reports with Congress and the Government Accountability Office so this rule may be reviewed.

List of Subjects

12 CFR Part 700

Credit unions.

12 CFR Part 704

Credit unions, Surety bonds.

12 CFR Part 705

Community development, Credit unions, Loan programs—housing and community development.

12 CFR Part 707

Advertising, Consumer protection, Credit unions, Reporting and recordkeeping requirements, Truth in savings.

12 CFR Part 708b

Credit unions, Mergers of credit unions, Reporting and recordkeeping requirements.

12 CFR Part 711

Credit unions.

12 CFR Part 713

Bonds, Credit unions, Insurance.

12 CFR Part 716

Bank deposit insurance, Consumer protection, Credit unions, Privacy.

12 CFR Part 723

Credit unions, Loan programs—business, Reporting and recordkeeping requirements.

12 CFR Part 760

Credit unions, Flood insurance, Mortgages.

12 CFR Part 792

Confidential business information, Freedom of information, Government employees, Privacy.

By the National Credit Union Administration Board on May 20, 2008.
Mary Rupp,
Secretary of the Board.

For the reasons discussed above, NCUA is amending 12 CFR parts 700, 704, 705, 707, 708b, 710, 711, 713, 716, 723, 760, and 792 as follows:

PART 700—DEFINITIONS

1. The authority citation for part 700 continues to read as follows:

Authority: 12 U.S.C. 1752, 1757(6), 1766.

§ 700.2 [Amended]

2. Section 700.2 is amended by removing the words “means a State” and adding in their place the words “means a state”, and by removing the word “Territories” and adding in its place the word “territories”.

PART 704—CORPORATE CREDIT UNIONS

3. The authority citation for part 704 continues to read as follows:

Authority: 12 U.S.C. 1766(a), 1781, 1789.

§ 704.8 [Amended]

4. Section 704.8(a)(4) is amended by removing the word “and” after the phrase “of this section;”.

PART 705—COMMUNITY DEVELOPMENT REVOLVING LOAN PROGRAM FOR CREDIT UNIONS

5. The authority citation for part 705 continues to read as follows:

Authority: 12 U.S.C. 1772C-1; 42 U.S.C. 9822 and 9822 note.

6. Section 705.5(b)(1) introductory text is amended by revising the last sentence to read as follows:

§ 705.5 Application for participation.

* * * * *

(b) * * *

(1) * * * A nonfederally insured credit union must include the following:

* * * * *

PART 707—TRUTH IN SAVINGS

7. The authority citation for part 707 continues to read as follows:

Authority: 12 U.S.C. 4311.

8. Section 707.8 is amended by revising paragraph (c)(5) to read as follows:

§ 707.8 Advertising.

* * * * *

(c) * * *

(5) Effect of fees. A statement that fees could reduce the earnings on the account.

* * * * *

PART 708b—MERGERS OF FEDERALLY-INSURED CREDIT UNIONS; VOLUNTARY TERMINATION OR CONVERSION OF INSURED STATUS

9. The authority citation for part 708b continues to read as follows:

Authority: 12 U.S.C. 1752(7), 1766, 1785, 1786, 1789.

§ 708b.105 [Amended]

10. Section 708b.105(b) is amended by removing the word “Part” and adding in its place “part” in the first sentence.

§ 708b.203 [Amended]

11. Section 708b.203(e)(1) is amended by removing the duplicate word “it” appearing after the words “credit union that”.

§ 708b.301 [Amended]

12. Section 708b.301 is amended as follows:

A. Paragraph (c) is amended by adding a period after the parenthetical “(Insert name of independent entity and address)” in the first full paragraph beginning with “The credit union must”.

B. Paragraph (c) is further amended by removing the word “accounts” and adding in its place the word “account” after the words “if I use different” in the second full paragraph beginning with “I understand if”.

C. Paragraph (d)(5) is amended by removing the word “inset” and adding in its place the word “insert” in the parenthetical following the words “a majority voted” in the eighth paragraph beginning with “(insert “20% or more”)”.

§ 708b.302 [Amended]

13. Section 708b.302 is amended as follows:

A. Paragraph (c) is amended by removing the word “accounts” and adding in its place the word “account” after the words “if I use different” in the second full paragraph beginning with “I Understand if”.

B. Paragraph (d)(5) is amended by removing the word “and” and adding in its place the word “an” before the words “entity independent” in the first full paragraph beginning with “The (insert name)”.

C. Paragraph (d)(5) is further amended by removing the word “inset” and adding in its place the word “insert” before the words “in favor of” in the eighth paragraph beginning with “(insert “20% or more”)”.

14. Section 708b.303 is amended as follows:

A. Paragraph (b) is amended by revising the first sentence in the second full paragraph to read as set forth below.

B. Paragraph (c)(5) is amended by removing the word “and” and adding in its place the word “an” before the words “entity independent” in the first sentence.

§ 708b.303 Conversion of insurance through merger.

* * * * *

(b) * * *

I understand if the merger or conversion of the (insert name of merging credit union) into the (insert name of continuing credit union) is approved, the National Credit Union Administration share (deposit) insurance I now have, up to $100,000, or possibly more if I use different account structures, will terminate upon the effective date of the conversion. * * *

* * * * *

PART 711—MANAGEMENT OFFICIAL INTERLOCKS

16. The authority citation for part 711 continues to read as follows:

Authority: 12 U.S.C. 1757 and 3201-3208.

§ 711.2 [Amended]

17. Section 711.2(j) is amended by removing the italicized phrase “Low- and moderate-income” and adding in its place the italicized phrase “Low and moderate-income”.

PART 713—FIDELITY BOND AND INSURANCE COVERAGE FOR FEDERAL CREDIT UNIONS

18. The authority citation for part 713 continues to read as follows:

Authority: 12 U.S.C. 1761A, 1761B, 1766(a), 1766(h), 1789(a)(11).

§ 713.4 [Amended]

19. Section 713.4(a) is amended by removing the words “Web site” and adding in its place the word “website”.

PART 716—PRIVACY OF CONSUMER FINANCIAL INFORMATION

20. The authority citation for part 716 continues to read as follows:

Authority: 15 U.S.C. 6801 et seq., 12 U.S.C. 1751 et seq.

§ 716.3 [Amended]

21. Section 716.3 is amended as follows:

A. Paragraph (b)(2)(iii) is amended by removing the italicized words “web sites” and adding in their place the italicized word “websites” in the paragraph heading, removing the words “web site” and adding in their place the word “website” in the first sentence, and removing the word “form” and adding in its place with the word “from” after the words “not distract attention” in the first sentence.

B. Paragraph (e)(2)(iii) is amended by removing the parentheses from the sentence that begins “(The individual” and ends with “institutions involved).”

PART 723—MEMBER BUSINESS LOANS

22. The authority citation for part 723 continues to read as follows:

Authority: 12 U.S.C. 1756, 1757, 1757A, 1766, 1785, 1789.

§ 723.21 [Amended]

23. Section 723.21 is amended as follows:

A. In the definition of Construction or development loan, Example 4 is amended by removing the word “incoming” in the fourth sentence and adding in its place the word “income”.

B. The definition of Net worth is amended by removing the phrase “low income-designated” and adding in its place the phrase “low-income designated” in the fourth sentence.

PART 760—LOANS IN AREAS HAVING SPECIAL FLOOD HAZARDS

24. The authority citation for part 760 continues to read as follows:

Authority: 12 U.S.C. 1757, 1789; 42 U.S.C. 4012a, 4104a, 4104b, 4106, and 4128.

§ 760.7 [Amended]

25. Section 760.7 is amended by removing the comma before the words “at any time during” and adding a comma after the words “not covered by flood insurance” in the first sentence.

PART 792—REQUESTS FOR INFORMATION UNDER THE FREEDOM OF INFORMATION ACT AND PRIVACY ACT, AND BY SUBPEONA; SECURITY PROCEEDURES FOR CLASSIFIED INFORMATION

26. The authority citation for part 792 continues to read as follows:

Authority: 5 U.S.C. 301, 552, 552A, 552B; 12 U.S.C. 1752a(d), 1766, 1789, 1795f; E.O. 12600, 52 FR 23781, 3 CFR, 1987 Comp., p. 235; E.O. 12958, 60 FR 19824, 3 CFR, 1995 Comp., p. 333.

§ 792.10 [Amended]

27. Section 792.10(b) is amended by removing the words “which meets” and adding in their place the words “that meet” in the third sentence.

§ 792.16 [Amended]

28. Section 792.16(a) is amended by adding a comma after the words “extends the time” and removing the comma after the words “with written notice” in the second sentence.

§ 792.28 [Amended]

29. Section 792.28 is amended by moving the period outside the parenthetical “(in case of partial denials)” in the second sentence.

§ 792.50 [Amended]

30. Section 792.50(a) is amended by removing the parenthetical phrase from the first sentence.

§ 792.51 [Amended]

31. Section 792.51(b) is amended by removing the words “Personnel Office” wherever they appear in the fourth sentence and adding in their place the words “Office of Human Resources”.

[FR Doc. E8-11736 Filed 5-27-08; 8:45 am]

BILLING CODE 7535-01-P